NATIONAL SCIENCE FOUNDATION

Sunshine Act Meetings

The National Science Board's (NSB) Committee on External Engagement hereby gives notice of the scheduling of a teleconference for the transaction of National Science Board business pursuant to the National Science Foundation Act and the Government in the Sunshine Act.

TIME AND DATE: Friday, April 21, 2023, from 11 a.m.-12 p.m. EDT.

PLACE: This meeting will be held by teleconference through the National Science Foundation.

STATUS: Open.

MATTERS TO BE CONSIDERED: The agenda of the teleconference is: Chair's opening remarks; Strategic Engagement Planning; Discuss draft Science & Engineering Indicators Engagement Plan.

CONTACT PERSON FOR MORE INFORMATION: Point of contact for this meeting is: Nadine Lymn, nlymn@nsf.gov, 703/292-7000. Members of the public can observe this meeting through a YouTube livestream. Meeting information including a YouTube link is available from the NSB website at https://www.nsf.gov/nsb/meetings/index.jsp#up.

Christopher Blair,
Executive Assistant to the National Science Board Office.

[FR Doc. 2023-08084 Filed 4-12-23; 4:15 pm]

BILLING CODE 7555-01-P